DEPARTMENT OF ENERGY

Federal Energy Regulatory Commission

Combined Notice of Filings #1

Take notice that the Commission received the following electric corporate filings:

Docket Numbers: EC20-43-000.

Applicants: Pacific Gas and Electric Company, PG&E Corporation.

Description: Supplement to March 2, 2020 Application for Authorization Under Section 203 of the Federal Power Act of Pacific Gas and Electric Company, et al.

Filed Date: 4/13/20.

Accession Number: 20200413-5227.

Comments Due: 5 p.m. ET 4/27/20.

Take notice that the Commission received the following electric rate filings:

Docket Numbers: ER20-1120-001.

Applicants: Paper Birch Energy, LLC.

Description: Tariff Amendment: Amended MBR Application to be effective 4/29/2020.

Filed Date: 4/13/20.

Accession Number: 20200413-5167.

Comments Due: 5 p.m. ET 5/4/20.

Docket Numbers: ER20-1457-001.

Applicants: Wisconsin Power and Light Company.

Description: Tariff Amendment: Refile—ACEC Wholesale Power Agreement Amendment to be effective 6/1/2020.

Filed Date: 4/13/20.

Accession Number: 20200413-5210.

Comments Due: 5 p.m. ET 5/4/20.

Docket Numbers: ER20-1460-001.

Applicants: Wisconsin Power and Light Company.

Description: Tariff Amendment: Refile—REC Amendment to WPA to be effective 6/1/2020.

Filed Date: 4/13/20.

Accession Number: 20200413-5213.

Comments Due: 5 p.m. ET 5/4/20.

Docket Numbers: ER20-1461-001.

Applicants: Wisconsin Power and Light Company.

Description: Tariff Amendment: Refile—CWEC Amendment to WPA to be effective 6/1/2020.

Filed Date: 4/13/20.

Accession Number: 20200413-5214.

Comments Due: 5 p.m. ET 5/4/20.

Docket Numbers: ER20-1525-000.

Applicants: Eastern Landfill Gas, LLC.

Description: Amendment to April 8, 2020 Waiver Request of Eastern Landfill Gas, LLC under ER20-1525. (Replaces 20200408-5021).

Filed Date: 4/13/20.

Accession Number: 20200413-5226.

Comments Due: 5 p.m. ET 4/29/20.

Docket Numbers: ER20-1558-000.

Applicants: PacifiCorp.

Description: § 205(d) Rate Filing: Lincoln Solar LGIA—unexecuted to be effective 6/13/2020.

Filed Date: 4/13/20.

Accession Number: 20200413-5207.

Comments Due: 5 p.m. ET 5/4/20.

Docket Numbers: ER20-1559-000.

Applicants: Tri-State Generation and Transmission Association, Inc.

Description: § 205(d) Rate Filing: Filing of Rate Schedule FERC No. 281, CTP Methodology to be effective 4/14/2020.

Filed Date: 4/13/20.

Accession Number: 20200413-5216.

Comments Due: 5 p.m. ET 5/4/20.

Docket Numbers: ER20-1560-000.

Applicants: Southwest Power Pool, Inc.

Description: § 205(d) Rate Filing: 3644 ETEC Attachment AO to be effective 3/31/2020.

Filed Date: 4/14/20.

Accession Number: 20200414-5005.

Comments Due: 5 p.m. ET 5/5/20.

Docket Numbers: ER20-1561-000.

Applicants: Virginia Electric and Power Company, PJM Interconnection, L.L.C.

Description: § 205(d) Rate Filing: Dominion submits Revisions to OATT, Att. H-16C re: Other Post-Employment Benefit to be effective 6/15/2020.

Filed Date: 4/14/20.

Accession Number: 20200414-5114.

Comments Due: 5 p.m. ET 5/5/20.

Docket Numbers: ER20-1562-000.

Applicants: Midlands Solar LLC.

Description: Baseline eTariff Filing: baseline new to be effective 4/15/2020.

Filed Date: 4/14/20.

Accession Number: 20200414-5125.

Comments Due: 5 p.m. ET 5/5/20.

Docket Numbers: ER20-1563-000.

Applicants: Midlands Lessee LLC.

Description: Baseline eTariff Filing: baseline new to be effective 4/15/2020.

Filed Date: 4/14/20.

Accession Number: 20200414-5128.

Comments Due: 5 p.m. ET 5/5/20.

Take notice that the Commission received the following electric securities filings:

Docket Numbers: ES20-23-000.

Applicants: Mississippi Power Company.

Description: Application Under Section 204 of the Federal Power Act for Authorization to Issue Securities of Mississippi Power Company.

Filed Date: 4/14/20.

Accession Number: 20200414-5118.

Comments Due: 5 p.m. ET 5/5/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 14, 2020.
Nathaniel J. Davis, Sr.,
Deputy Secretary.

[FR Doc. 2020-08254 Filed 4-17-20; 8:45 am]

BILLING CODE 6717-01-P